DEPARTMENT OF VETERANS AFFAIRS

Health Services Research and Development Service Scientific Merit Review Board, Notice of Meeting

The Department of Veterans Affairs (VA) gives notice under Public Law 92-463 (Federal Advisory Committee Act) that various subcommittees of the Health Services Research and Development Service Scientific Merit Review Board will meet on August 28-30, 2012, at the Boston Omni Parker House, 60 School Street, Boston, Massachusetts. Each subcommittee meeting of the Board will be open to the public the first day for approximately one half-hour from 8 a.m. until 8:30 a.m. to cover administrative matters and to discuss the general status of the program. The remaining portion of the meetings will be closed. The closed portion of each meeting will involve discussion, examination, reference to, and oral review of the intramural research proposals and critiques.

The purpose of the Board is to review research and development applications involving the measurement and evaluation of health care services, the testing of new methods of health care delivery and management, and nursing research. Applications are reviewed for scientific and technical merit. Recommendations regarding funding are submitted to the Chief Research and Development Officer.

On August 28, the following subcommittees will convene: Nursing Research Initiatives from 8 a.m. to 3 p.m.; Health Services Research (HSR)—8 Research Best Practices from 3 p.m. to 4:30 p.m.; Collaborative Research (HCR) to Enhance and Advance Transformation and Excellence, HCR 0—Quality from 8 a.m. to 12 noon; and HCR 1—Infectious Disease from 1 p.m. to 4 p.m. The Career Development Award Review Group will convene from 8 a.m. to 5:30 p.m. On August 29, the Career Development Award Review Group will reconvene from 8 a.m. to 3 p.m.; and six subcommittees on Health Services Research (HSR 1—Medical Care and Clinical Management; HSR 2—Patient and Special Population Determinants of Health and Care; HSR 3—Methods and Modeling for Research, Informatics, and Surveillance; HSR 4—Mental and Behavioral Health; HSR 5—Health Care System Organization and Delivery, and HSR 6—Post-acute and Long-term Care) will convene from 8 a.m. to 6 p.m. On August 30, four subcommittees on Collaborative Research (HCR) to Enhance and Advance Transformation and Excellence (HCR 2—Prevention; HCR 3—Analytics; HCR 4—Models of Care; and HCR 5—Traumatic Brain Injury) will convene from 8 a.m. to 12 noon, and four subcommittees (HCR 6—Patient Aligned Care Teams; HCR 7—Natural Language Processing; HCR 8—Access; and HCR 9—Transitions) will convene from 1 p.m. to 4 p.m.

During the closed portion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing portions of each meeting is in accordance with 5 U.S.C. 552b(c)(6) and (9)(B).

Those who plan to attend the open sessions should contact Kristy Benton-Grover, Program Manager, Scientific Merit Review Board, Department of Veterans Affairs, Health Services Research and Development Service (10P9H), 810 Vermont Avenue NW., Washington, DC 20420, or by email at Kristy.benton-grover@va.gov, at least 5 days before the meeting. For further information, please call Mrs. Benton-Grover at (202) 443-5728.

By Direction of the Secretary.
Dated: July 12, 2012.
Vivian Drake,
Committee Management Officer.

[FR Doc. 2012-17376 Filed 7-17-12; 8:45 am]

BILLING CODE P